ENVIRONMENTAL PROTECTION AGENCY

40 CFR Part 60

[EPA-HQ-OAR-2013-0602; FRL-9918-49-OAR]

RIN 2060-AR33

Carbon Pollution Emission Guidelines for Existing Stationary Sources: Electric Utility Generating Units

AGENCY: Environmental Protection Agency.

ACTION: Proposed rule; correction.

SUMMARY: The Environmental Protection Agency (EPA) published in the Federal Register on September 25, 2014, an extending the comment period for the proposed rule titled “Carbon Pollution Emission Guidelines for Existing Stationary Sources: Electric Utility Generating Units” by 45 days. Inadvertently, that proposed rule included an incorrect digit in the docket number for the proposed rule. This proposed rule corrects that error.

DATES: This correction is effective on October 27, 2014.

FOR FURTHER INFORMATION CONTACT: Ms. Amy Vasu, Sector Policies and Programs Division (D205-01), U.S. EPA, Research Triangle Park, NC 27711; telephone number (919) 541-0107, facsimile number (919) 541-4991; email address: vasu.amy@epa.gov or Ms. Marguerite McLamb, Sector Policies and Programs Division (D205-01), U.S. EPA, Research Triangle Park, NC 27711; telephone number (919) 541-7858, facsimile number (919) 541-4991; email address: mclamb.marguerite@epa.gov.

SUPPLEMENTARY INFORMATION: The EPA published in the Federal Register on September 25, 2014 (79 FR 57492), a proposed rule extending, by 45 days, the comment period for the proposed rule titled “Carbon Pollution Emission Guidelines for Existing Stationary Sources: Electric Utility Generating Units.” This proposed rule corrects an incorrect docket number published on September 25, 2014.

In FR Doc. 2014-22832, published on September 25, 2014 (79 FR 57492), in the first column of page 57492, correct the docket number listed in the notice to read:

Docket: The EPA has established the official public docket for this rulemaking under Docket ID No. EPA-HQ-OAR-2013-0602.

Dated: October 20, 2014.
Mary E. Henigin,
Acting Director for Office of Air Quality Planning and Standards.

[FR Doc. 2014-25486 Filed 10-24-14; 8:45 am]

BILLING CODE 6560-50-P